DEPARTMENT OF LABOR

Employment and Training Administration

[TA-W-80,510]

Suntron Corporation, Including On-Site Leased Workers From Manpower, Nesco, TPI and Robert Half, Sugarland, TX; Amended Certification Regarding Eligibility To Apply for Worker Adjustment Assistance

In accordance with Section 223 of the Trade Act of 1974, as amended (“Act”), 19 U.S.C. 2273, the Department of Labor (Department) issued a Certification of Eligibility to Apply for Worker Adjustment Assistance on November 17, 2011, applicable to workers and former workers of Suntron Corporation, including on-site leased workers from Manpower, Sugarland, Texas. The Department's Notice of determination was published in the Federal Register on December 6, 2012 (Vol. 76, No. 234 FR 76186).

At the request of a state workforce official, the Department reviewed the certification for workers of the subject firm. The workers were engaged in activities related to the production of circuit boards.

The company reports that workers leased from NESCO, TPI, and Robert Half were employed on-site at the Sugarland, Texas location of Suntron Corporation. The Department has determined that these workers were sufficiently under the control of the subject firm to be considered leased workers.

Based on these findings, the Department is amending this certification to include workers leased from NESCO, TPI, and Robert Half working on-site at the Sugarland, Texas location of the subject firm.

The amended notice applicable to TA-W-80,510 is hereby issued as follows:

All workers of Suntron Corporation, including on-site leased workers from Manpower, NESCO, TPI, and Robert Half, Sugar Land, Texas, who became totally or partially separated from employment on or after October 12, 2010, through November 17, 2013, and all workers in the group threatened with total or partial separation from employment on the date of certification through two years from the date of certification, are eligible to apply for adjustment assistance under Chapter 2 of Title II of the Trade Act of 1974, as amended.

Signed in Washington, DC, this 16th day of July 2012.
Del Min Amy Chen,
Certifying Officer, Office of Trade Adjustment Assistance.

[FR Doc. 2012-18419 Filed 7-27-12; 8:45 am]

BILLING CODE 4510-FN-P